NUCLEAR REGULATORY COMMISSION

NRC Coordination Meeting With Standards Development Organizations

AGENCY: Nuclear Regulatory Commission.

ACTION: Notice of meeting.

SUMMARY: The NRC has committed through its Strategic Plan to utilize consensus standards to increase the involvement of licensees and others in the NRC's regulatory development process, consistent with the provisions of Public Law (P.L.) 104-113, the National Technology and Transfer Act of 1995, and Office of Management and Budget (OMB) Circular A-119, “Federal Participation in the Development and Use of Voluntary Consensus Standards and Conformity Assessment.” As part of this commitment, periodic coordination meetings with key standards development organizations (SDOs) and other stakeholders have been held to foster better communication of SDOs' ongoing activities, and NRC needs regarding standards development and their use. This notice provides the date and agenda for the next meeting.

DATES: July 27, 2000—The meeting will begin at 1:00 p.m. and will last approximately four hours. Attendees should enter the One White Flint North lobby by 12:45 p.m. to complete the required badging process.

LOCATION: U.S. Nuclear Regulatory Commission Headquarters, One White Flint North, 11555 Rockville Pike, Room O-4-B6, Rockville, Maryland 20852-2738.

CONTACT: Wallace E. Norris, USNRC, Telephone: (301) 415-6796; Fax: (301) 415-5074; Internet: wen@nrc.gov

ATTENDANCE: This meeting is open to the general public. All individuals planning to attend, including SDO representatives, are requested to preregister with Mr. Norris by telephone or e-mail and provide their name, affiliation, phone number, and e-mail address.

PROGRAM: The purpose of the meeting is to foster better communication between SDOs and NRC regarding standards development and use. By holding periodic coordination meetings, the SDOs will be able to describe their on-going and planned activities, and the NRC will be able to discuss activities and issues related to specific standards that are being developed or revised to meet its regulatory needs. The meeting will be coordinated by the NRC Standards Executive.

Among the topics to be discussed are:

1. The on-going review of NRC staff participation on standards committees.

2. Coordination between NRC and SDOs and the mechanism for initiating standards.

3. When overlapping standards exist or are being developed (e.g., ASTM, ISO, CEN), how should the lead SDO be determined?

4. Use of consensus standards in Independent Spent Fuel Storage Facilities (ISFSI); how the NRC will use consensus standards in NRC licensing activities for ISFSI and geologic repository disposal for high level nuclear waste and spent nuclear fuel.

Dated in Rockville, Maryland, this 19th day of June, 2000.
For the Nuclear Regulatory Commission,
Michael E. Mayfield,
NRC Standards Executive.

[FR Doc. 00-16082 Filed 6-23-00; 8:45 am]

BILLING CODE 7590-01-P